DEPARTMENT OF TRANSPORTATION

National Foundation for the Arts and the Humanities

National Endowment for the Arts; National Council on the Arts 160th Meeting

Pursuant to section 10(a)(2) of the Federal Advisory Committee Act (Pub. L. 92-463), as amended, notice is hereby given that a meeting of the National Council on the Arts will be held on March 22 and March 23, 2007 in Rooms 527 and M-09 at the Nancy Hanks Center, 1100 Pennsylvania Avenue, NW, Washington, DC 20506.

The Council will meet in closed session on March 22nd, from 12 p.m. to 2 p.m., in Room 527 for discussion of National Medal of Arts nominations. In accordance with the determination of the Chairman of February 16, 2007, this session will be closed to the public pursuant to subsection (c)(6) of section 552b of Title 5, United States Code.

The March 23rd meeting, from 9 a.m. to 11:45 a.m. (ending time is approximate), will be open to the public on a space available basis. Opening remarks and announcements will include introduction of new Council members and viewing of a clip from the Operation Homecoming film. This will be followed by an update on Congressional/White House activities. The meeting will include two presentations: One on 40 years of NEA support for Theater and Musical Theater and one on Artist Communities, highlighting the MacDowell Colony and including guest speakers and a performance (participants not yet determined). This will be followed by review and voting on applications and guidelines. The meeting will conclude with general discussion.

If, in the course of the open session discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue, NW, Washington, DC 20506, 202/682-5532, TTY-TDD 202/682-5429, at least seven (7) days prior to the meeting.

Further information with reference to this meeting can be obtained from the Office of Communications, National Endowment for the Arts, Washington, DC 20506, at 202/682-5570.

Dated: February 22, 2007.
Kathy Plowitz-Worden,
Panel Coordinator, Office of Guidelines and Panel Operations.

[FR Doc. E7-3413 Filed 2-27-07; 8:45 am]

BILLING CODE 7537-01-P